DEPARTMENT OF TRANSPORTATION

Federal Aviation Administration

RTCA Special Committee 187: Mode Select Beacon and Data Link System

AGENCY: Federal Aviation Administration (FAA), DOT.

ACTION: Notice of RTCA Special Committee 187 meeting.

SUMMARY: The FAA is issuing this notice to advise the public of a meeting of RTCA Special Committee 187: Mode Select Beacon and Data Link System.

DATES: The meeting will be held February 19-20, 2002, from 9 a.m. to 5 p.m.

ADDRESSES: The meeting will be held at RTCA, 1828 L Street, NW., Suite 805, Washington, DC 20036.

FOR FURTHER INFORMATION CONTACT: RTCA Secretariat, 1828 L Street, NW., Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 187 meeting. The agenda will include:

• February 19-20:

• Opening Session (Chairman's Introductory Remarks, Review and Approve Agenda, Approve Previous Meeting Minutes).

• Review Revision C—Proposed Change 1 to RTCA DO-181C, RTCA Paper No. 016-02/SC187-047, Addition of Hijack Mode Operations.

• Closing Session (Other Business, Date and Time of Next Meeting, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on January 23, 2002.
Janice L. Peters,
FAA Special Assistant, RTCA Advisory Committee.

[FR Doc. 02-2409 Filed 1-30-02; 8:45 am]

BILLING CODE 4910-13-M